DEPARTMENT OF HOMELAND SECURITY

Office of the Secretary

[Docket No. DHS-2011-0072]

Privacy Act of 1974; Department of Homeland Security U.S. Coast Guard DHS/USCG—014 Military Pay and Personnel System of Records

AGENCY: Privacy Office, DHS.

ACTION: Notice of Privacy Act system of records.

SUMMARY: In accordance with the Privacy Act of 1974, the Department of Homeland Security proposes to update and reissue an existing Department of Homeland Security system of records titled, “Department of Homeland Security U.S. Coast Guard—014 Military Pay and Personnel System of Records.” This system of records allows the Department of Homeland Security U.S. Coast Guard to collect and maintain records regarding pay and personnel. As a result of a biennial review of this system, records have been updated in the categories of individuals, categories of records, purpose, and routine uses. This updated system will be included in the Department of Homeland Security's inventory of record systems.

DATES: Submit comments on or before November 28, 2011. This new system will be effective November 28, 2011.

ADDRESSES: You may submit comments, identified by docket number DHS-2011-0072 by one of the following methods:

• Federal e-Rulemaking Portal: http://www.regulations.gov. Follow the instructions for submitting comments.

• Fax: 1 (703) 483-2999.

• Mail: Mary Ellen Callahan, Chief Privacy Officer, Privacy Office, Department of Homeland Security, Washington, DC 20528.

• Instructions: All submissions received must include the agency name and docket number for this rulemaking. All comments received will be posted without change to http://www.regulations.gov, including any personal information provided.

• Docket: For access to the docket, to read background documents, or comments received, go to http://www.regulations.gov.

FOR FURTHER INFORMATION CONTACT: For general questions please contact: Marilyn Scott-Perez ((202) 475-3515), Privacy Officer, U.S. Coast Guard, 2100 2nd Street SW., Mail Stop 7101, Washington, DC 20593. For privacy issues please contact: Mary Ellen Callahan ((703) 235-0780), Chief Privacy Officer, Privacy Office, U.S. Department of Homeland Security, Washington, DC 20528.

SUPPLEMENTARY INFORMATION:

I. Background

In accordance with the Privacy Act of 1974, 5 U.S.C. 552a, the Department of Homeland Security (DHS) U.S. Coast Guard (USCG) proposes to update and reissue an existing DHS/USCG system of records titled, “DHS/USCG-014 Military Pay and Personnel System of Records” 73 FR 77743, December 19, 2008. This system of records notice allows the USCG to collect and maintain records regarding pay and personnel. As a result of the biennial review of this system, categories of individuals covered by the system have been updated to include active and reserve service applicants and prospective applicants, civilian personnel, USCG Auxiliary members, USCG exchange employees, and contractor personnel. Records in the categories of records in the system have been updated to include other Health Insurance Portability and Accountability Act (HIPAA) related/protected data, background investigation and security clearance information, government credit card status, data related to information technology (IT) training, and information technology system accounts, roles, and permissions. The purpose category has been updated to include active and reserve service applicants and prospective applicants, and separated military personnel, USCG civilian personnel, USCG Auxiliary members, USCG exchange employees, and USCG contractor personnel in addition to the continuity of operations (COOP)/personnel accountability function. Lastly, routine uses of records maintained in the system, including categories of users and the purposes of such uses have been updated to include relevant insurance companies for the purpose of health and life insurance requests and eligibility and to the Department of Defense (DoD) for the purpose of preparing for and during actual emergencies, exercises or continuity of operations tests for the purpose of responding to emergency situations or to allow emergency service personnel to locate the individual(s).

Consistent with DHS's information sharing mission, information stored in the DHS/USCG-014 Military Pay and Personnel System may be shared with other DHS components, as well as appropriate federal, state, local, tribal, territorial, foreign, or international government agencies. This sharing will only take place after DHS determines that the receiving component or agency has a need to know the information to carry out national security, law enforcement, immigration, intelligence, or other functions consistent with the routine uses set forth in this system of records notice. This updated system will be included in DHS's inventory of record systems.

II. Privacy Act

The Privacy Act embodies fair information practice principles in a statutory framework governing the means by which the U.S. Government collects, maintains, uses, and disseminates individuals' records. The Privacy Act applies to information that is maintained in a “system of records.” A “system of records” is a group of any records under the control of an agency for which information is stored and retrieved by the name of an individual or by some identifying number, symbol, or other identifying particular assigned to the individual. In the Privacy Act, an individual is defined to encompass U.S. citizens and lawful permanent residents. As a matter of policy, DHS extends administrative Privacy Act protections to all individuals where systems of records maintain information on U.S. citizens, lawful permanent residents, and visitors.

Below is the description of the DHS/USCG-014 Military Pay and Personnel System of Records.

III. Health Insurance Portability and Accountability Act

This system of records contains individually identifiable health information. The HIPAA of 1996 applies to most of such health information. DoD 6025.18-R may place additional procedural requirements on the uses and disclosures of such information beyond those found in the Privacy Act of 1974 or mentioned in this system of records notice.

In accordance with 5 U.S.C. 552a(r), DHS has provided a report of this new system of records to the Office of Management and Budget and to Congress.

System of Records

DHS/USCG-014

System name:

DHS/USCG-014 Military Pay and Personnel System

Security classification:

Unclassified.

System location:

Records are maintained at USCG Headquarters in Washington, DC and field offices.

Categories of individuals covered by the system:

Categories of individuals covered by this system include active and reserve service applicants and prospective applicants, civilian personnel, active duty, reserve, retired active duty and retired reserve USCG military personnel and their annuitants and dependents, separated military personnel, USCG auxiliary members, USCG exchange workers, and contractor personnel. Also included are active duty and retired National Oceanic and Atmospheric Administration (NOAA) Officers and their annuitants and dependents, as well as Officers of the Commissioned Corps of the U.S. Public Health Service (PHS) and their annuitants and dependents.

Categories of records in the system:

Categories of records in this system include:

• Individual's name;

• Social security number;

• Employee identification number;

• Date and place of birth;

• Gender;

• Minority designation and nationality;

• Marital status;

• Limited medical related information to include dates of physical examinations, color blindness, immunizations, weight and body mass index (and compliance to standards);

• Other HIPAA related/protected data;

• Addresses;

• Total current monetary earnings, including overtime, computed to the nearest dollar;

• Number of hours worked;

• Leave accrual rate;

• Leave requests and balances;

• Health and life insurance requests and eligibility;

• Payroll deduction requests;

• Information for the purpose of validating legal requirements for garnishment of wages;

• Salary rate;

• Cash awards;

• Retirement withholdings;

• Background information to include work experience;

• Education records, including: highest level achieved; specialized education or training obtained in and outside of military service; non-traditional education support records; achievement and aptitude test results; academic performance records; correspondence course rate advancement records; military performance records; admissions processing records; grade reporting records; academic status records; and transcript maintenance records;

• Military duty assignments;

• Ranks held;

• Allowances;

• Personnel actions such as promotions, demotions, or separations;

• Record of instances of Uniform Code of Military Justice infractions;

• Performance evaluations;

• Background investigation, and security clearance information;

• Government credit card status;

• Individual's desires for future assignments, training requested, and notations by assignment officers;

• Information for determinations of waivers and remissions of indebtedness to the U.S. government;

• Travel claims, transportation claims, government bills of lading, and applications for shipment of household effects;

• USCG housing records, including: housing surveys, computer data summaries, and correspondence from the individual seeking housing;

• Information regarding IT training, IT system accounts, roles, permissions; and

• Names, dates of birth, addresses, social security numbers, and gender of annuitants and dependents of active duty, reserve, and retired active duty and reserve military members.

Authority for maintenance of the system:

5 U.S.C. 301; The Federal Records Act, 44 U.S.C. 3101; 5 U.S.C. 5501-5597; 10 U.S.C. 1043, 1147; 14 U.S.C. 92(I) 92(r), 93(g), 475, 512, 620, 632, 645, 681, 687; 37 U.S.C. 406; 42 U.S.C. 213, 253; 49 CFR 1.45, 1.46.

Purpose(s):

The purpose of this system is to administer the USCG active duty, reserve, and retired active duty and retired reserve military pay and personnel system. To accomplish personnel accountability for USCG affiliated personnel in a natural or man-made disaster or when directed by the USCG Commandant. The USCG may also collect information about Service members and their dependents and civilian employees and their dependents as well as all personnel assigned to USCG for regular performance of duties including Officers of the Commissioned Corps of the U.S. PHS and personnel in exchange or reimbursable positions (per COOP requirements for personnel accountability), and for needs assessment as a result of the natural or man-made disaster.

The USCG may also use this accountability data for accountability and assessment reporting exercises. The system is also used to administer USCG civilian personnel formal USCG training course management, security clearance data, competency, and accomplishment data as well as tracking IT training, IT system accounts, roles, and permissions for military, civilian, and contractor personnel. Additionally, the system is used to provide necessary information to the Department of Commerce (DOC) for NOAA Officers and to Department of Health and Human Services (HHS) for Officers of the Commissioned Corps of the U.S. PHS to administer their respective pay and personnel system.

Routine uses of records maintained in the system, including categories of users and the purposes of such uses:

Note: This system of records contains individually identifiable health information. The HIPAA of 1996, applies to most of such health information. DoD 6025.18-R may place additional procedural requirements on the uses and disclosures of such information beyond those found in the Privacy Act of 1974 or mentioned in this system of records notice. Therefore, routine uses outlined below may not apply to such health information.

In addition to those disclosures generally permitted under 5 U.S.C. 552a(b) of the Privacy Act, all or a portion of the records of information contained in this system may be disclosed outside DHS as a routine use pursuant to 5 U.S.C. 552a(b)(3) as follows:

A. To the Department of Justice (DOJ), including U.S. Attorney Offices, or other federal agency conducting litigation or in proceedings before any court, adjudicative or administrative body, when it is necessary to the litigation and one of the following is a party to the litigation or has an interest in such litigation:

1. DHS or any component thereof;

2. any employee of DHS in his/her official capacity;

3. any employee of DHS in his/her individual capacity where DOJ or DHS has agreed to represent the employee; or

4. the U.S. or any agency thereof, is a party to the litigation or has an interest in such litigation, and DHS determines that the records are both relevant and necessary to the litigation and the use of such records is compatible with the purpose for which DHS collected the records.

B. To a congressional office from the record of an individual in response to an inquiry from that congressional office made at the request of the individual to whom the record pertains.

C. To the National Archives and Records Administration (NARA) or other federal government agencies pursuant to records management inspections being conducted under the authority of 44 U.S.C. 2904 and 2906.

D. To an agency, organization, or individual for the purpose of performing audit or oversight operations as authorized by law, but only such information as is necessary and relevant to such audit or oversight function.

E. To appropriate agencies, entities, and persons when:

1. DHS suspects or has confirmed that the security or confidentiality of information in the system of records has been compromised;

2. The Department has determined that as a result of the suspected or confirmed compromise there is a risk of harm to economic or property interests, identity theft or fraud, or harm to the security or integrity of this system or other systems or programs (whether maintained by DHS or another agency or entity) or harm to the individual that rely upon the compromised information; and

3. The disclosure made to such agencies, entities, and persons is reasonably necessary to assist in connection with DHS's efforts to respond to the suspected or confirmed compromise and prevent, minimize, or remedy such harm.

F. To contractors and their agents, grantees, experts, consultants, and others performing or working on a contract, service, grant, cooperative agreement, or other assignment for DHS, when necessary to accomplish an agency function related to this system of records. Individuals provided information under this routine use are subject to the same Privacy Act requirements and limitations on disclosure as are applicable to DHS officers and employees.

G. To an appropriate federal, state, tribal, local, international, or foreign law enforcement agency or other appropriate authority charged with investigating or prosecuting a violation or enforcing or implementing a law, rule, regulation, or order, where a record, either on its face or in conjunction with other information, indicates a violation or potential violation of law, which includes criminal, civil, or regulatory violations and such disclosure is proper and consistent with the official duties of the person making the disclosure.

H. To the Department of Treasury (DOT) for the purpose of disbursement of salary, U.S. Savings Bonds, allotments, or travel claim payments.

I. To appropriate insurance agencies/companies for the purpose of health and life insurance requests and eligibility.

J. To the DOC and HHS to administer their respective pay and personnel systems for NOAA Officers and Officers of the Commissioned Corps of the PHS, respectively.

K. To Federal, State, and local government agencies to disclose earnings and tax information, including the Internal Revenue Service (IRS) and the Social Security Administration (SSA).

L. To DoD and Veterans Administration (VA) for determinations of benefit eligibility for military members and their dependents.

M. To DoD for manpower and readiness planning.

N. To the Comptroller General for the purpose of processing waivers and remissions.

O. To an individual's spouse, or person responsible for the care of the individual concerned when the individual to whom the record pertains is mentally incompetent, critically ill, or under other legal disability for the purpose of assuring the individual is receiving benefits or compensation they are entitled to receive.

P. To a requesting government agency, organization, or individual the home address and other relevant information on those individuals who, it is reasonably believed, might have contracted an illness, been exposed to, or suffered from a health hazard while a member of government service.

Q. To other government agencies for the purpose of earnings garnishment.

R. To DoD for the purpose of preparing the Register of Officers and Register of Reserve Officers, which is provided to all USCG officers.

S. To education institutions or training facilities for purposes of enrollment and verification of employee attendance and performance.

T. To DoD for the purpose of preparing for and during actual emergencies, exercises or COOP tests for the purpose of responding to emergency situations or to allow emergency service.

U. To the news media and the public, with the approval of the Chief Privacy Officer in consultation with counsel, when there exists a legitimate public interest in the disclosure of the information or when disclosure is necessary to preserve confidence in the integrity of DHS or is necessary to demonstrate the accountability of DHS's officers, employees, or individuals covered by the system, except to the extent it is determined that release of the specific information in the context of a particular case would constitute an unwarranted invasion of personal privacy.

Disclosure to consumer reporting agencies:

None.

Policies and practices for storing, retrieving, accessing, retaining, and disposing of records in the system:

Storage:

Records in this system are stored electronically or on paper in secure facilities in a locked drawer behind a locked door. The records are stored on magnetic disc, tape, digital media, CD-ROM, and DVD.

Retrievability:

Records may be retrieved by name, social security number, or employee identification number.

Safeguards:

Records in this system are safeguarded in accordance with applicable rules and policies, including all applicable DHS automated systems security and access policies as well as those of the USCG. A defense in depth strategy has been employed. Overlapping and complimentary management, operational and technical security controls have been implemented and followed to minimize the risk of compromising the confidentiality or adversely impacting the integrity of the information that is being stored, processed, and/or transmitted. Access to the computer system(s) containing the records in this system is limited to those individuals who have a verified need to know the information for the performance of their official duties and who have appropriate clearances or permissions.

Retention and disposal:

In accordance with General Records Schedule (GRS) 9, Item 1c and 3, travel and transportation of household effects records are temporary and are destroyed seven years after the period covered by account.

In accordance with NC1-26-76-2, item 359 and NC1-26-80-4, item 151, PHS Commissioned Officer Corps staffing and recruiting records are temporary and are transferred to the PHS Commission Personnel Operation Division upon completion of the USCG assignment.

In accordance with NC1-26-76-2, items 559 and 561 and NC1-26-80-4, item 338b, military training and education records are temporary, including training courses and related material, school and training files containing correspondence, reports and related paper on USCG and Navy schools and trainee index cards. These records are destroyed when five years old. In accordance with GRS 2, item 29 b, civilian training education records are destroyed after five years.

In accordance with NC1-26-80-4, items 338b, 338c, 338d and 338e, class folders containing military personal and service history, muster card files, and recruit training record cards are destroyed when one year old.

In accordance with N1-330-04-1, item 1, military personnel system (Official Military Personnel File (OMPF)) records are permanent and folders are transferred to the National Personnel Records Center (NPRC) six months after separation. OMPF records are transferred to NARA 62 years after the date of retirement or separation.

In accordance with NC1-26-76-2, items 583a and 584a and N1-330-04-1, item 1, officer selection and appointment system records, officer candidates and direct commission program application for selected applicants are filed in the OMPF.

In accordance with NC1-26-76-2, item 583b, non-selected officer candidate applicant's records are destroyed six months after deadline dates for class which application is made.

In accordance with NC1-26-79-2, item 584b, non-selected direct commission program applicants records are destroyed one year from date of board by which considered.

In accordance with NC1-26-80-4, item 337b, Officer Candidates School and direct commission officer applicant files containing copies of applications for appointment in the USCG reserve, interviews, reports, and medical examination are destroyed when one year after period covered by account.

In accordance with NC1-26-76-2, item 587, applicant files are destroyed one year after the period covered by account.

In accordance with GAO-SCHED/5/1 and NC1-26-80-4, item 99d, military pay records are destroyed 56 years after the period covered by account.

In accordance with SSIC 7400, item 1 and NC1-26-76-2, items 184 and 99s, military personnel FICA wage credit, federal income tax listings, leave and earnings statements and pay records are microfilmed and retained onsite for four years, then archived at the Federal Record Center, and destroyed 50 years after the period covered by account.

In accordance with GRS 15, item 3, USCG family housing records are temporary and destroyed two years after the period covered by account.

In accordance with GRS 25, item 1a, outside employment of active duty USCG personnel records are temporary and destroyed when three years old or when superseded or obsolete, whichever is later.

Duplicate magnetic copies of the pay and personnel record are retained at an offsite facility for a useful life of seven years.

In accordance with GRS 24, item 61, information regarding IT training, IT system accounts, roles, permissions, Automatic Identification System user access authorization/revocation, and password files are destroyed one year after user account is terminated, password altered, or when no longer needed for investigative or security purposes.

Paper records for waivers and remissions are retained on site and destroyed six years three months after the determination.

In accordance with GRS 2, item 18, paper records to determine legal sufficiency for garnishment are destroyed six years three months after the period covered by account when the member separates from service or garnishment is terminated. Federal employee records are destroyed three years after garnishment is terminated.

Records concerning congressional correspondence are maintained indefinitely because they have been determined to be of historical value.

System Manager and address:

For active duty military personnel, civilian personnel, and separated personnel of the USCG: Chief, Office of Personnel, USCG Headquarters, 2100 2nd Street, SW., Washington, DC 20593-0001. For USCG reserve military personnel and retired USCG reserve military personnel waiting pay at age 60: Chief, Office of Reserve Affairs, USCG Headquarters, 2100 2nd Street, SW., Washington, DC 20593-0001. For USCG waivers and remissions: Chief, Personnel Services Division, Office of Military Personnel, USCG Headquarters, 2100 2nd Street, SW., Washington, DC 20593-0001. For records used to determine legal sufficiency for garnishment of wages and pay records: Commanding Officer, USCG, Personnel Services Center, 444 SE., Quincy Street, Topeka, KS 66683-3591. For data added to the decentralized data segment the commanding officer, officer-in-charge of the unit handling the military personnel's pay and personnel record, or Chief, Administrative Services Division for individuals whose records are handled by USCG Headquarters 2100 2nd Street, SW., Washington, DC 20593-0001.

For active and reserve service applicants and prospective applicants: Commanding Officer, USCG Recruiting Command, STOP 7500, 2300 Wilson Blvd. Suite 500, Arlington, VA 20598-7500.

For retired active USCG military personnel and their annuitants and dependents: Commanding Officer, USCG, Personnel Services Center, 444 SE., Quincy Street, Topeka, KS 66683-3591.

For USCG auxiliary members: Director of Auxiliary, USCG, 2100 2ND ST, SW., STOP 7581, Washington, DC 20593-7581.

For USCG exchange workers: Commandant (G-WPX), USCG Exchange System, CGES & MWR Headquarters, 870 Greenbrier Circle, Greenbrier Tower II, Suite 502, Chesapeake, VA 23320-2681.

For contractor personnel: Commandant (USCG-9), USCG Headquarters, 1900 Half Street, SW., Washington, DC 20593.

For NOAA members: National Oceanic and Atmospheric Administration, Commissioned Personnel Division, 11400 Rockville Pike, Rockville, MD 20852.

For Officers of the Commissioned Corps: U.S. Public Health Service Office of Commissioned Corps Operations, 1100 Wootton Parkway, Suite 100, Rockville, MD 20852.

Notification procedure:

Individuals seeking notification of and access to any record contained in this system of records, or seeking to contest its content, may submit a request in writing to: For active duty military personnel of the USCG: Chief, Office of Personnel, USCG Headquarters, 2100 2nd Street, SW., Washington, DC 20593-0001. For USCG reserve military personnel and retired USCG reserve military personnel awaiting pay at age 60: Chief, Office of Reserve Affairs, USCG Headquarters, 2100 2nd Street, SW., Washington, DC 20593-0001. For USCG waivers and remissions: Chief, Personnel Services Division, Office of Military Personnel, USCG Headquarters, 2100 2nd Street, SW., Washington, DC 20593-0001. For records used to determine legal sufficiency for garnishment of wages and pay records: Commanding Officer, USCG, Personnel Services Center, 444 SE., Quincy Street, Topeka, KS 66683-3591. For data added to the decentralized data segment the commanding officer, officer-in-charge of the unit handling the individual's pay and personnel record, or Chief, Administrative Services Division for individuals whose records are handled by USCG Headquarters, 2100 2nd Street, SW., Washington, DC 20593-0001.

For NOAA members: National Oceanic and Atmospheric Administration, Commissioned Personnel Division, 11400 Rockville Pike, Rockville, MD 20852.

For Officers of the Commissioned Corps: U.S. Public Health Service, Office of Commissioned Corps Operations, 1100 Wootton Parkway, Suite 100, Rockville, MD 20852. If an individual believes more than one component maintains Privacy Act records, the individual may submit the request to the Chief Privacy Officer and Chief Freedom of Information Act Officer, Department of Homeland Security, 245 Murray Drive, SW., Building 410, STOP-0655, Washington, DC 20528.

When seeking records about yourself from this system of records or any other USCG system of records your request must conform with the Privacy Act regulations set forth in 6 CFR part 5. You must first verify your identity, meaning that you must provide your full name, current address and date and place of birth. You must sign your request, and your signature must either be notarized or submitted under 28 U.S.C. 1746, a law that permits statements to be made under penalty of perjury as a substitute for notarization. While no specific form is required, you may obtain forms for this purpose from the Chief Privacy Officer and Chief Freedom of Information Act Officer, http://www.dhs.gov or 1-(866) 431-0486. In addition you should provide the following:

• An explanation of why you believe the Department would have information on you;

• Identify which component(s) of the Department you believe may have the information about you;

• Specify when you believe the records would have been created;

• Provide any other information that will help the FOIA staff determine which DHS component agency may have responsive records; and

• If your request is seeking records pertaining to another living individual, you must include a statement from that individual certifying his/her agreement for you to access his/her records.

Without this bulleted information the USCG may not be able to conduct an effective search, and your request may be denied due to lack of specificity or lack of compliance with applicable regulations.

Record access procedures:

See “Notification procedure” above.

Contesting record procedures:

See “Notification procedure” above.

Record source categories:

Individuals, USCG personnel officials, NOAA personnel officials, DoD, PHS personnel officials, previous employers, educational institutions, court records, and test results.

Exemptions claimed for the system:

None.

Dated: September 22, 2011.
Mary Ellen Callahan,
Chief Privacy Officer, Department of Homeland Security.

[FR Doc. 2011-27881 Filed 10-27-11; 8:45 am]

BILLING CODE 9110-04-P